DEPARTMENT OF THE INTERIOR

National Park Service

[NPS-WASO-NRNHL-DTS#-38691; PPWOCRADI0, PCU00RP14.R50000]

National Register of Historic Places; Notification of Pending Nominations and Related Actions

AGENCY: National Park Service, Interior.

ACTION: Notice.

SUMMARY: The National Park Service is soliciting electronic comments on the significance of properties nominated before August 31, 2024, for listing or related actions in the National Register of Historic Places.

DATES: Comments should be submitted electronically by September 25, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 31, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

ALASKA

Sitka Borough

Ranghild Cottage, 300 Harbor Drive, Sitka, SG100010895

CALIFORNIA

Los Angeles County

Citrus Square Historic District, parts of both sides of Sycamore Avenue, Orange Drive, Mansfield Avenue, and Citrus Avenue, from 3rd Street to Clinton Street, Los Angeles, SG100010884

San Diego County

Heart of Bankers Hill Historic District, Generally bounded by W. Walnut Ave (north), Redwood Canyon (south), Brant and Curlew Streets (west), and Front Street (east), San Diego, SG100010887

KANSAS

Franklin County

Tauy Baptist Church, 4097 Nevada Road, Ottawa, SG100010891

Sedgwick County

Corbin Education Center, Wichita State University, 1845 Fairmount Street, Wichita, SG100010890

SOUTH CAROLINA

Dillon County

Bethea, Alpheus Victor and Martha Cooper, Farmstead, 2547 SC Highway 34 West, Dillon vicinity, SG100010894

Additional documentation has been received for the following resource(s):

CALIFORNIA

San Francisco County

C.A. THAYER (Additional Documentation), San Francisco Maritime National Historical Park/Hyde Street Pier, San Francisco, AD66000229

Nomination(s) submitted by Federal Preservation Officers:

The State Historic Preservation Officer reviewed the following nomination(s) and responded to the Federal Preservation Officer within 45 days of receipt of the nomination(s) and supports listing the properties in the National Register of Historic Places.

WASHINGTON

Benton County

Post Office and Federal Office Building, 825 Jadwin Avenue, Richland, SG100010893

Spokane County

Courthouse and Federal Office Building, 920 W Riverside Avenue, Spokane, SG100010892

Authority: Section 60.13 of 36 CFR part 60.

Sherry A. Frear,
Chief, National Register of Historic Places/National Historic Landmarks Program.

[FR Doc. 2024-20362 Filed 9-9-24; 8:45 am]

BILLING CODE 4312-52-P